DEPARTMENT OF COMMERCE

National Oceanic and Atmospheric Administration

[I.D. 101200D]

South Atlantic Fishery Management Council; Public Meeting

AGENCY: National Marine Fisheries Service (NMFS), National Oceanic and Atmospheric Administration (NOAA), Commerce.

ACTION: Notice of public meetings.

SUMMARY: The South Atlantic Fishery Management Council's (Council) Scientific and Statistical Committee (SSC) will meet.

DATES: The SSC meeting will be held on November 8, 2000, from 1:30 p.m. to 5 p.m., and on November 9, 2000, from 9 a.m. to 3 p.m.

ADDRESSES: The meetings will be held at the Town & Country Inn, 2008 Savannah Highway, Charleston, SC 29407; telephone: (843) 571-1000 or 1-800/334-6660.

FOR FURTHER INFORMATION CONTACT: Kim Iverson, Public Information Officer, telephone: (843) 571-4366; fax: (843) 769-4520; email: kim.iverson@noaa.gov.

SUPPLEMENTARY INFORMATION: The SSC will review and provide comments and guidance on the following: proposed Maximum Sustainable Yield and overfishing definitions to meet Sustainable Fisheries Act requirements; presentations on population assessments and age/growth comparisons for white grunt off the Southeastern coast and age, growth and mortality of gray snapper from the East coast of Florida; status of the vessel capacity program; a report on the status of the spiny lobster fishery in Florida; the status of the Council's activities regarding marine reserves; the rock shrimp limited entry options paper; a report on an ethnographic social network tracing study; a report on the Council/NMFS cost and returns study; and a review of the information available on the use of powerheads to harvest snapper/grouper species.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to the Council office (see ADDRESSES) by October 30, 2000.

Dated: October 12, 2000.
Richard W. Surdi,
Acting Director, Office of Sustainable Fisheries, National Marine Fisheries Service.

[FR Doc. 00-26938 Filed 10-18-00; 8:45 am]

BILLING CODE 3510-22-S